DEPARTMENT OF TRANSPORTATION

Coast Guard

33 CFR Part 100

[CGD05-02-009]

RIN 2115-AE46

Special Local Regulations for Marine Events; Chesapeake Bay Near Annapolis, MD

AGENCY: Coast Guard, DOT.

ACTION: Temporary final rule.

SUMMARY: The Coast Guard is adopting temporary special local regulations during the Volvo Ocean Race, Leg 7 Restart, a marine event to be held over the waters of Chesapeake Bay between Thomas Point and Sandy Point, near Annapolis, Maryland. These special local regulations are necessary to provide for the safety of life on navigable waters during the event. This action is intended to restrict vessel traffic in portions of the Chesapeake Bay during the event.

DATES: This rule is effective from 10 a.m. to 2:30 p.m. EDT on April 28, 2002.

ADDRESSES: Documents indicated in this preamble as being available in the docket, are part of docket CGD05-02-009 and are available for inspection or copying at Commander (Aoax), Fifth Coast Guard District, 431 Crawford Street, Portsmouth, Virginia 23704-5004, between 9 a.m. and 2 p.m., Monday through Friday, except Federal holidays.

FOR FURTHER INFORMATION CONTACT: Lieutenant Dulani Woods, Volvo Ocean Race Chesapeake Project Officer, Commander, Coast Guard Activities Baltimore, telephone number (410) 576-2513.

SUPPLEMENTARY INFORMATION:

Regulatory Information

We did not publish a notice of proposed rulemaking (NPRM) for this regulation. In keeping with 5 U.S.C. 553(b)(B) and 553(d)(3), the Coast Guard finds that good cause exists for not publishing a NPRM and for making this rule effective less than 30 days after publication in the Federal Register. The event will occur on Sunday, April 28, 2002, and numerous spectator craft are expected to gather near the event area. Because of the danger posed by many sailing vessels maneuvering in close proximity of each other at the beginning of a critical race restart, special local regulations are necessary to provide for the safety of event participants, spectator craft and other vessels transiting the event area. For the safety concerns noted, it is in the public interest to have these regulations in effect during the event. The William P. Lane Jr. (Chesapeake Bay) Bridge Eastern Span and Channel will remain unaffected during the event. In addition, advance notifications will be made via the Local Notice to Mariners, marine information broadcasts, sponsor-provided pamphlets and area newspapers.

Background and Purpose

On April 28, 2002, Ocean Race Chesapeake, Inc. will sponsor the Leg 7 Restart of the 2001-2002 Volvo Round The World Race on the waters of Chesapeake Bay between Thomas Point and Sandy Point, near Annapolis, Maryland. The event will consist of eight 64-foot sailing vessels conducting a strictly organized restart to a highly publicized, international sailing race. Opposing teams will be maneuvering in a predetermined area on the Chesapeake Channel adjacent to the William P. Lane Jr. (Chesapeake Bay) Bridge Main Channel Span. A fleet of spectator vessels is anticipated. Due to the need for vessel control while a fair and accurate restart is conducted, vessel traffic will be temporarily restricted to provide for the safety of spectators, participants and transiting vessels.

Discussion of Rule

The Coast Guard is establishing temporary special local regulations on specified waters of the Chesapeake Bay. The regulated area will include an area approximately 7.5 nautical miles long and 1.3 nautical miles wide. The temporary special local regulations will be enforced from 10 a.m. to 2:30 p.m. EDT on April 28, 2002, and will restrict general navigation in the regulated area during the event. Except for participants and vessels authorized by the Coast Guard Patrol Commander, no person or vessel may enter or remain in the regulated area. The William P. Lane Jr. (Chesapeake Bay) Bridge Eastern Span and Channel will remain unaffected during the event.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040; February 26, 1979).

Although this regulation prevents traffic from transiting the Chesapeake Channel between Thomas Point and Sandy Point during the event, the effect of this regulation will not be significant due to the limited duration of the regulation, the availability of the William P. Lane Jr. (Chesapeake Bay) Bridge Eastern Span and Channel, and the extensive advance notifications that will be made to the maritime community via the Local Notice to Mariners, marine information broadcasts, sponsor-provided pamphlets and area newspapers, so mariners can adjust their plans accordingly.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: the owners or operators of vessels intending to transit this section of Chesapeake Bay during the event.

Although this regulation prevents traffic from transiting the Chesapeake Channel of the Chesapeake Bay during the event, the effect of this regulation will not be significant because of its limited duration, the availability of the William P. Lane Jr. (Chesapeake Bay) Bridge Eastern Span and Channel, and the extensive advance notifications that will be made to the maritime community via the Local Notice to Mariners, marine information broadcasts, sponsor-provided pamphlets and area newspapers, so mariners can adjust their plans accordingly.

Assistance for Small Entities

Under section 213(a) of the Small Business Regulatory Enforcement Fairness Act of 1996 (Pub. L. 104-121), we want to assist small entities in understanding this temporary rule so that they can better evaluate its effects on them and participate in the rulemaking.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State law or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments, because it does not have a substantial and direct effect on one or more Indian tribes, on the relationship between the Federal Governments and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We considered the environmental impact of this rule and concluded that, under figure 2-1, paragraphs (34)(h) and (35)(a) of Commandant Instruction M16475.1D, this rule is categorically excluded from further environmental documentation. Special local regulations issued in conjunction with a regatta or marine parade permit for an event not located in, proximate to, or above an area designated as environmentally sensitive by an environmental agency of the Federal, state, or local government, are specifically excluded from further analysis and documentation under those sections. A “Categorical Exclusion Determination” is available in the docket where indicated under ADDRESSES.

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 33 U.S.C. 1233 through 1236; 49 CFR 1.46; 33 CFR 100.35.

2. Add a temporary section, § 100.35T-05-009 to read as follows:

§ 100.35T-05-009 Chesapeake Bay, near Annapolis, MD.

(a) Definitions:

(1) Coast Guard Patrol Commander. The Coast Guard Patrol Commander is a commissioned, warrant, or petty officer of the Coast Guard who has been designated by the Commander, Coast Guard Activities Baltimore.

(2) Official Patrol. The Official Patrol is any vessel assigned or approved by Commander, Coast Guard Activities Baltimore with a commissioned, warrant, or petty officer on board and displaying a Coast Guard ensign.

(3) Participant. Includes all vessels participating in the Volvo Ocean Race Chesapeake under the auspices of the Marine Event Permit issued to the event sponsor and approved by Commander, Coast Guard Activities Baltimore.

(4) Regulated Area. Includes the waters of the Chesapeake Bay, within an area approximately 7.5 nautical miles long and 1.3 nautical miles wide, bounded by a line drawn from a position at latitude 39°00′32″ N, longitude 076°23′03″ W, southwesterly to a position at 39°00′11″ N, longitude 076°21′50″ W, southeasterly to a position at 38°56′07″ N, longitude 076°24′11″ W, southerly to a position at 38°53′00″ N, longitude 076°24′13″ W, easterly to a position at 38°53′00″ N, longitude 076°25′58″ W, northerly to a position at 38°56′30″ N, longitude 076°25′29″ W, thence northeasterly to a position at 39°00′32″ N, longitude 076°23′03″ W. All coordinates reference Datum NAD 1983.

(b) Special Local Regulations:

(1) Except for event participants and persons or vessels authorized by the Coast Guard Patrol Commander, no person or vessel may enter or remain in the regulated area.

(2) The operator of any vessel in the regulated area shall:

(i) Stop the vessel immediately when directed to do so by any official patrol.

(ii) Proceed as directed by any official patrol.

(iii) Unless otherwise directed by the official patrol, operate at a minimum wake speed not to exceed six (6) knots.

(c) Effective Dates: This section is in effect from 10 a.m. to 2:30 p.m. EDT on April 28, 2002.

Dated: March 13, 2002.
L. Mizell,
Captain, Coast Guard, Acting Commander, Fifth Coast Guard District.

[FR Doc. 02-7232 Filed 3-25-02; 8:45 am]

BILLING CODE 4910-15-P